ENVIRONMENTAL PROTECTION AGENCY

40 CFR Parts 61 and 63

[EPA-R06-OAR-2008-0063; FRL-9926-50-Region 6]

National Emission Standards for Hazardous Air Pollutants; Delegation of Authority to Oklahoma

AGENCY: Environmental Protection Agency (EPA).

ACTION: Withdrawal of direct final rule.

SUMMARY: On February 24, 2015, the Environmental Protection Agency (EPA) published a direct final rule approving the updated delegation of EPA authority for implementation and enforcement of National Emission Standards for Hazardous Air Pollutants (NESHAPs) for all sources (both part 70 and non-part 70 sources) to the Oklahoma Department of Environmental Quality (ODEQ). The direct final rule was published without prior proposal because EPA anticipated no adverse comments. EPA stated in the direct final rule that if EPA received relevant, adverse comments by March 26, 2015, EPA would publish a timely withdrawal in the Federal Register. EPA received a relevant, adverse comment on March 25, 2015, and accordingly is withdrawing the direct final rule, and in a separate subsequent final rulemaking will address the comment received.

DATES: Effective April 21, 2015, the direct final rule published at 80 FR 9622 on February 24, 2015, is withdrawn.

FOR FURTHER INFORMATION CONTACT: Mr. Rick Barrett (6PD-R), Air Permits Section, telephone (214) 665-7227, fax (214) 665-6762, email: barrett.richard@epa.gov.

SUPPLEMENTARY INFORMATION: On February 24, 2015, EPA published a direct final rule approving the updated delegation of EPA authority for implementation and enforcement of NESHAPs for all sources (both part 70 and non-part 70 sources) to the ODEQ. The direct final rule was published without prior proposal because EPA anticipated no adverse comments. EPA stated in the direct final rule that if relevant, adverse comments were received by March 26, 2015, EPA would publish a timely withdrawal in the Federal Register. EPA received a comment on March 25, 2015, from the ODEQ stating in relevant part, that EPA reconsider the limitation on ODEQ's authority over NESHAPs and remove the language in the final rule requiring ODEQ to make a demonstration of jurisdiction over non-reservation Indian country. ODEQ cited various wording from two court cases where both generally stated that a state has regulatory jurisdiction under the CAA over all the land within its territory and outside the boundaries of an Indian reservation, and that regulatory jurisdiction under the CAA must lie initially with either a tribe or a state. EPA considers this a relevant, adverse comment and accordingly is withdrawing the direct final rule. In a separate subsequent final rulemaking EPA will address the comment received. The withdrawal is being taken pursuant to section 112 of the CAA.

List of Subjects

40 CFR Part 61

Environmental protection, Administrative practice and procedure, Air pollution control, Arsenic, Benzene, Beryllium, Hazardous substances, Mercury, Intergovernmental relations, Reporting and recordkeeping requirements, Vinyl chloride.

40 CFR Part 63

Environmental protection, Administrative practice and procedure, Air pollution control, Hazardous substances, Intergovernmental relations, Reporting and recordkeeping requirements.

Dated: April 9, 2015.
Wren Stenger,
Director, Multimedia Planning and Permitting Division, Region 6.

PART 61—NATIONAL EMISSION STANDARDS FOR HAZARDOUS AIR POLLUTANTS

PART 63—NATIONAL EMISSION STANDARDS FOR HAZARDOUS AIR POLLUTANTS FOR SOURCE CATEGORIES

Accordingly, the amendments to 40 CFR 61.04 and 40 CFR 63.99 published in the Federal Register on February 24, 2015 (80 FR 9622) on pages 9625 and 9626 are withdrawn effective April 21, 2015.

[FR Doc. 2015-09201 Filed 4-20-15; 8:45 am]

BILLING CODE 6560-50-P